DEPARTMENT OF COMMERCE

National Oceanic and Atmospheric Administration

RIN: 0648-XI70

Gulf of Mexico Fishery Management Council; Public Hearings

AGENCY: National Marine Fisheries Service (NMFS), National Oceanic and Atmospheric Administration (NOAA), Commerce.

ACTION: Notice of public hearings.

SUMMARY: The Gulf of Mexico Fishery Management Council (Council) will convene public hearings on Reef Fish Amendment 29, Spiny Lobster and Aquaculture Amendment.

DATES: The public hearings will held from July 21 - 31, 2008 at 10 locations throughout the Gulf of Mexico. For specific dates, times and subjects, see SUPPLEMENTARY INFORMATION.

ADDRESSES: The public hearings will be held in the following locations: Galveston, TX, New Orleans, LA, Biloxi, MS, Orange Beach, AL, Ft. Myers, Key West, Marathon, Miami, Tampa and Panama City, FL. For specific dates, times and subjects, see SUPPLEMENTARY INFORMATION.

Council address: Gulf of Mexico Fishery Management Council, 2203 North Lois Avenue, Suite 1100, Tampa, FL 33607.

FOR FURTHER INFORMATION CONTACT: Assane Diagne, Economist; telephone: (813) 348-1630.

SUPPLEMENTARY INFORMATION: The Gulf of Mexico Fishery Management Council (Council) has scheduled a series of public hearings on Reef Fish Amendment 29, Spiny Lobster and Aquaculture Amendment. Reef Fish Amendment 29 proposes to rationalize effort and reduce overcapacity in the commercial grouper and tilefish fisheries in order to achieve and maintain optimum yield (OY). Effort management approaches considered in this amendment include permit endorsements and the implementation of an Individual Fishing Quota (IFQ) program. Spiny Lobster Amendment 8 examines various alternatives to restrict imports of spiny lobster into the United States to minimum conservation standards to achieve an increase in the spawning biomass of the spiny lobster stock and increase long-term yields from the fishery. The Aquaculture amendment will require persons to obtain a permit from NMFS to participate in aquaculture by constructing an aquaculture facility in the EEZ of the Gulf of Mexico. Each application for a permit must comply with many permit conditions related to record keeping and operation of the facility. These permit conditions will assure the facility has a minimal affect on the environment and on other fishery resources. Compliance with the conditions will be evaluated annually for the duration of the permit as the basis for renewal of the permit for the next year.

An informal open question and answers session on IFQ's will begin at 5:30 p.m. At 6 p.m. the public hearings will begin and conclude at the end of public testimony or no later than 9 p.m. at each of the following locations:

•Monday, July 21, 2008, Reef Fish Amendment 29 Public Hearing, Best Western, 5914 Seawall Blvd., Galveston, TX 77550; telephone: (409) 740-1261;

•Monday, July 21, 2008, Spiny Lobster, Reef Fish Amendment 29 and Aquaculture Amendment Public Hearings, Radisson Hotel, 3820 N. Roosevelt Blvd., Key West, FL 33040, telephone: (305) 294-5511;

•Tuesday, July 22, 2008, Reef Fish Amendment 29 Public Hearing, Hilton Airport, 901 Airline Drive, Kenner, LA 70062, telephone: (504) 469-5000;

•Tuesday, July 22, 2008, Spiny Lobster and Reef Fish Amendment 29 Public Hearings, Banana Bay Resort, 4590 Overseas Highway, Marathon, FL 33050, telephone: (305) 743-3500;

•Wednesday, July 23, 2008, Spiny Lobster and Reef Fish Amendment 29 Public Hearings, Doubletree, 2649 S. Bayshore Blvd., Miami, FL 33133, telephone: (305) 858-2500;

•Wednesday, July 23, 2008, Reef Fish Amendment 29 Public Hearing, Wingate Inn, 12009 Indian River Road, Biloxi, MS 39540, telephone: (228) 396-0036;

•Thursday, July 24, 2008, Reef Fish Amendment 29 Public Hearing, Clarion Hotel, 12635 S. Cleveland Ave., Ft. Myers, FL 33907, telephone: (239) 936-4300;

•Thursday, July 24, 2008, Reef Fish Amendment 29 Public Hearing, City of Orange Beach Parks & Rec., 27235 Canal Rd, Orange Beach, AL 36561, telephone: (251) 981-6028;

•Wednesday, July 30, 2008, Reef Fish Amendment 29 Public Hearing, Quorum, 700 N. Westshore Blvd, Tampa, FL 33609, telephone: (813) 289-8200;

•Thursday, July 31, 2008, Reef Fish Amendment 29 Public Hearing, NMFS Panama City Lab, 350 Dellwood Beach Dr., Panama City, FL 32408, telephone: (850) 234-6541.

Copies of the Amendments can be obtained by calling the Council office at (813) 348-1630.

Special Accommodations

These hearings are physically accessible to people with disabilities. Requests for sign language interpretation or other auxiliary aids should be directed to Tina O'Hern at the Council (see ADDRESSES) at least 5 working days prior to the meeting.

Dated: June 25, 2008.
Tracey L. Thompson,
Acting Director, Office of Sustainable Fisheries, National Marine Fisheries Service.

[FR Doc. E8-14806 Filed 6-27-08; 8:45 am]

BILLING CODE 3510-22-S